ENVIRONMENTAL PROTECTION AGENCY

[EPA-HQ-OPP-2010-0014; FRL-9913-20]

Notice of Receipt of Requests to Voluntarily Cancel Certain Pesticide Registrations; Correction

AGENCY: Environmental Protection Agency (EPA).

ACTION: Notice; correction.

SUMMARY: EPA issued a notice in the Federal Register of June 11, 2014, concerning receipt of requests to voluntarily cancel certain pesticide registrations. In this notice, EPA inadvertently listed the pesticide products AC 801, 757 Miticide-Insecticide (EPA Reg. No. 071711-00022) and AC 801, 757 3EC Miticide-Insecticide (EPA Reg. No. 071711-00023). The registrant did not request a 180-day comment period. The registrant had requested the Agency to waive the 180-day comment period for a 30-day comment period, instead. Therefore, EPA is removing EPA Reg. Nos. 071711-00022 and 071711-00023. This document removes EPA Reg. Nos. 071711-00022 and 071711-00023 from the June 11, 2014, Federal Register notice.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

The Agency included in the Federal Register notice of June 11, 2014 (79 FR 33550) (FRL 9911-36) a list of those who may be potentially affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

EPA issued a notice in the Federal Register of June 11, 2014, concerning receipt of requests to voluntarily cancel certain pesticide registrations. In this notice, EPA inadvertently listed the pesticide products AC 801, 757 Miticide-Insecticide (EPA Reg. No. 071711-00022) and AC 801, 757 3EC Miticide-Insecticide (EPA Reg. No. 071711-00023). The registrant did not request a 180-day comment period. The registrant had requested the Agency to waive the 180-day comment period for a 30-day comment period, instead. Therefore, EPA is removing the pesticide products AC 801, 757 Miticide-Insecticide (EPA Reg. No. 071711-00022) and AC 801, 757 3EC Miticide-Insecticide (EPA Reg. No. 071711-00023). This document removes EPA Reg. Nos. 071711-00022 and 071711-00023 listed in the June 11, 2014, Federal Register notice.

List of Subjects

Environmental protection, pesticides and pests.

Dated: June 26, 2014.
Richard P. Keigwin, Jr.,
Director, Pesticide Re-Evaluation Division, Office of Pesticide Programs.

[FR Doc. 2014-16457 Filed 7-15-14; 8:45 am]

BILLING CODE 6560-50-P